COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products and services to be furnished by nonprofit agencies employing persons who are blind or have other severe disabilities.

Comments Must Be Received On or Before: October 5, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments of the proposed actions. If the Committee approves the proposed additions, the entities of the Federal Government identified in the notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

End of Certification

The following products and services are proposed for addition to Procurement List for production by the nonprofit agencies listed:

Products

Product/NSN: C Shell CD Cases

7045-00-NIB-0181

7045-00-NIB-0189

NPA: Wiscraft Inc.—Wisconsin Enterprises for the Blind, Milwaukee, Wisconsin

Contract Activity: Office Supplies & Paper Products Acquisition Center, New York, New York

Product/NSN: Envelope, Inter-Departmental, Colored

7530-01-498-1086—Blue Kraft

7530-01-498-1088—Red Kraft

7530-01-498-1089—Yellow Kraft

NPA: Gateway Community Industries, Inc., Kingston, New York

Contract Activity: Office Supplies & Paper Products Acquisition Center, New York, New York

Product/NSN: Maritime Load Carriage System Kit (MLCS)

8415-00-NSH-0658

NPA: Chautauqua County Chapter, NYSARC, Jamestown, New York

Contract Activity: U.S. Army Robert Morris Acquisition Center, Natick, Massachusetts

Services

Service Type/Location: Custodial Services,

VA Outpatient Clinic, Daytona Beach, Florida

NPA: ACT CORP., Daytona Beach, Florida

Contract Activity: North Florida/South Georgia Veterans Health System, Gainesville, Florida

Service Type/Location: Duplication and Copy Machine Operation

GSA 10 Causeway Street, 9th Floor, Boston, Massachusetts

NPA: Morgan Memorial Goodwill Industries, Boston, Massachusetts

Contract Activity: GSA Region 1, Boston, Massachusetts

Service Type/Location: Janitorial/Custodial

Leetown Science Center, Kearneysville, West Virginia

NPA: Job Squad, Inc., Clarksburg, West Virginia

Contract Activity: U.S. Geological Survey, Reston, Virginia

Service Type/Location: Janitorial/Custodial

Minton-Capehart Federal Building, Indianapolis, Indiana

NPA: GW Commercial Services, Inc., Indianapolis, Indiana

Contract Activity: GSA, Public Buildings Service (5P), Chicago, Illinois

Service Type/Location: Storage, Handling & Distribution of Consumer Labeling Initiative, Read the Label First! Promotional Items

Environmental Protection Agency, Washington, DC

NPA: Virginia Industries for the Blind, Charlottesville, Virginia

Contract Activity: Environmental Protection Agency, Washington, DC

Service Type/Location: Telephone Switchboard Operations

VA Medical Center, Kansas City, Missouri

NPA: Alphapointe Association for the Blind, Kansas City, Missouri

Contract Activity: VA Heartland Network 15, Leavenworth, Kansas

Sheryl D. Kennerly,
Director, Information Management.

[FR Doc. 03-22674 Filed 9-4-03; 8:45 am]

BILLING CODE 6353-01-P